DEPARTMENT OF COMMERCE

Foreign-Trade Zones Board

[Order No. 1918]

Approval of Expansion of Subzone 99E, Delaware City Refining Company LLC, New Castle County, Delaware

Pursuant to its authority under the Foreign-Trade Zones Act of June 18, 1934, as amended (19 U.S.C. 81a-81u), the Foreign-Trade Zones Board (the Board) adopts the following Order:

Whereas, the State of Delaware (grantee of FTZ 99), through the Delaware Economic Development Office, has made application to the Board to expand Subzone 99E at the facilities of Delaware City Refining Company LLC, located in New Castle County, Delaware (FTZ Docket B-38-2013, docketed 04-26-2013);

Whereas, notice inviting public comment has been given in the Federal Register (78 FR 25698-25699, 05-02-13) and the application has been processed pursuant to the FTZ Act and the Board's regulations; and,

Whereas, the Board adopts the findings and recommendations of the examiner, and finds that the requirements of the FTZ Act and the Board's regulations are satisfied;

Now, therefore, the Board hereby approves the expansion of Subzone 99E at the facilities of the Delaware City Refining Company LLC, located in New Castle County, Delaware, as described in the application and Federal Register notice, subject to the FTZ Act and the Board's regulations, including Section 400.13.

Signed at Washington, DC, this 30th day of September 2013.
Paul Piquado,
Assistant Secretary of Commerce for Import Administration, Alternate Chairman, Foreign-Trade Zones Board.
Andrew McGilvray,
Executive Secretary.

[FR Doc. 2013-25257 Filed 10-29-13; 8:45 am]

BILLING CODE 3510-DS-P